DEPARTMENT OF STATE

[Public Notice: 12109]

30-Day Notice of Proposed Information Collection: Crisis Assistance Request Form

ACTION: Notice of request for public comment and submission to OMB of proposed collection of information.

SUMMARY: The Department of State is seeking Office of Management and Budget (OMB) approval for the information collection described below. In accordance with the Paperwork Reduction Act of 1995, we are requesting comments on this collection from all interested individuals and organizations. The purpose of this notice is to allow 30 days for public comment preceding submission of the collection to OMB.

DATES: The Department will accept comments from the public up to July 26, 2023.

ADDRESSES: You may submit comments by any of the following methods: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Clifton Oliphant, Bureau of Consular Affairs, Overseas Citizens Services (CA/OCS/MSU), U.S. Department of State, 2201 C St. NW, Washington, DC 20522, who may be reached at OlipantCE@state.gov or by phone at 202-485-6020.

SUPPLEMENTARY INFORMATION:

• Title of Information Collection: Crisis Assistance Request Form.

• OMB Control Number: 1405-XXXX.

• Type of Request: New collection.

• Originating Office: Bureau of Consular Affairs.

• Form Number: No form number.

• Respondents: U.S. citizens and lawful permanent residents currently in a country experiencing a crisis.

• Estimated Number of Respondents: 120,000.

• Estimated Number of Responses: 120,000.

• Average Time per Response: 5 minutes.

• Total Estimated Burden Time: 10,000 hours.

• Frequency: Once.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology. Please note that comments submitted in response to this Notice are public record. Before including any detailed personal information, you should be aware that your comments as submitted, including your personal information, will be available for public review.

Abstract of Proposed Collection

The purpose of the collection is to enable the Department of State to better identify and communicate with U.S. citizens and lawful permanent residents (LPRs) who may be in need of assistance in a country experiencing a crisis. The form asks U.S. citizens and LPRs currently in a country experiencing a crisis to share information with us about their current plans, the number of people in their group, and their exact location. It also asks for their latest contact information and contact information for an emergency contact not currently in the country.

The Department is utilizing this form to acquire the most current and accurate data possible to inform our consular assistance efforts. It will allow us to build a more current picture of how many U.S. citizens and LPRs plan to remain in the country experiencing a crisis and any who may request reimbursable loan assistance to depart or other consular assistance. Completion of the form is entirely voluntary.

U.S. government-assisted evacuations can vary depending on the nature of the crisis. In extreme situations, where local infrastructure is damaged or failing but the security situation still allows for some safe movement, the Department may work with the host government, other countries, and other U.S. government agencies to arrange chartered or non-commercial transportation based on information entered in this form. With respect to LPRs, the Department may accommodate special family circumstances, such as when a spouse or other immediate relative of a U.S. citizen is traveling with the U.S. citizen family member.

Methodology

The collection will be completed 100 percent electronically. The respondent will access the form at the following link: https://cacms.state.gov/s/crisis-intake. The link will also be accessible from the crisis country's country information page on www.travel.state.gov, the U.S. embassy or consulate website for that country, and other Department of State communications. The Department may also choose as appropriate to distribute the form's URL through emails from @state.gov email addresses, or in messaging sent as consular information products. The link will only be activated when there is a need to collect the information.

Kevin E. Bryant,
Deputy Director, Office of Directives Management, Department of State.

[FR Doc. 2023-13481 Filed 6-23-23; 8:45 am]

BILLING CODE 4710-06-P